DEPARTMENT OF TRANSPORTATION

Federal Aviation Administration

14 CFR Part 39

[Docket No. FAA-2006-23870; Directorate Identifier 2005-NM-022-AD; Amendment 39-14575; AD 2006-09-05]

RIN 2120-AA64

Airworthiness Directives; Airbus Model A310-200 and -300 Series Airplanes

AGENCY: Federal Aviation Administration (FAA), Department of Transportation (DOT).

ACTION: Final rule.

SUMMARY: The FAA is adopting a new airworthiness directive (AD) for all Airbus Model A310-200 and -300 series airplanes. This AD requires doing repetitive rotating probe inspections for any crack of the rear spar internal angle and the left and right sides of the tee fitting, and doing related investigative/corrective actions if necessary. This AD also requires modifying the holes in the internal angle and tee fitting by cold expansion. This AD results from full-scale fatigue tests, which revealed cracks in the lower rear spar internal angle, and tee fitting. We are issuing this AD to detect and correct fatigue cracks of the rear spar internal angle and tee fitting, which could lead to the rupture of the internal angle, tee fitting, and rear spar, and consequent reduced structural integrity of the wings.

DATES: This AD becomes effective June 7, 2006.

The Director of the Federal Register approved the incorporation by reference of certain publications listed in the AD as of June 7, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A310-200 and -300 series airplanes. That NPRM was published in the Federal Register on February 13, 2006 (71 FR 7449). That NPRM proposed to require doing repetitive rotating probe inspections for any crack of the rear spar internal angle and the left and right sides of the tee fitting, and doing related investigative/corrective actions if necessary. That NPRM also proposed to require modifying the holes in the internal angle and tee fitting by cold expansion.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD. This AD will affect about 56 airplanes of U.S. registry. Work hours and parts costs vary according to the configuration of the airplane.

Estimated Costs
Action | Work hour | Average labor rate per hour | Parts | Cost per airplane | Fleet cost
Inspection | 16-306 | $65 | $618-$18,489 | $1,658-$38,379, per inspection cycle | $92,848-$2,149,224, per inspection cycle.
Modification | 146-381 | 65 | 4,350-15,501 | $13,840-$40,266 | $775,040-$2,254,896.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-09-05 Airbus: Amendment 39-14575. Docket No. FAA-2006-23870; Directorate Identifier 2005-NM-022-AD.

Effective Date

(a) This AD becomes effective June 7, 2006.

Affected ADs

(b) Certain requirements of this AD terminate certain requirements of AD 98-26-01, amendment 39-10942.

Applicability

(c) This AD applies to all Airbus Model A310-203, -204, -221, and -222 airplanes; and Model A310-304, -322, -324, and -325 airplanes; certificated in any category.

Unsafe Condition

(d) This AD results from full-scale fatigue tests, which revealed cracks in the lower rear spar internal angle and tee fitting. We are issuing this AD to detect and correct fatigue cracks of the rear spar internal angle and tee fitting, which could lead to the rupture of the internal angle, tee fitting, and rear spar, and consequent reduced structural integrity of the wings.

Compliance

(e) You are responsible for having the actions required by this AD performed within the compliance times specified, unless the actions have already been done.

Initial and Repetitive Inspections

(f) At the later of the times specified in paragraphs (f)(1) and (f)(2) of this AD, do a rotating probe inspection for any crack of the rear spar internal angle located in the center wing box and do all applicable related investigative and corrective actions in accordance with the Accomplishment Instructions of Airbus Service Bulletin A310-57-2047, Revision 06, dated July 13, 2004, except as required by paragraphs (k), (l), and (m) of this AD. Do all applicable related investigative and corrective actions before further flight.

(1) Within 1,000 flight cycles or 1,600 flight hours after the effective date of this AD, whichever is first.

(2) At the applicable time specified in Table 1 of this AD.

Table 1.—Initial Compliance Times for the Rear Spar Internal Angle
Airplane model and configuration | Threshold
Model A310-203, -204, -221, and -222 airplanes that are not modified by Airbus Modifications 06672S6812 and 07387S7974 | Before the accumulation of 10,300 total flight cycles or 16,600 total flight hours, whichever is first.
Model A310-203, -204, -221, and -222 airplanes that are modified by Airbus Modifications 06672S6812 and 07387S7974 (modified either in production or in accordance with Airbus Service Bulletin A310-57-2035) | Before the accumulation of 23,400 total flight cycles or 37,700 total flight hours, whichever is first.
Model A310-304, -322, -324, and -325 airplanes that are not modified by Airbus Modifications 06672S6812 and 07387S7974 | Before the accumulation of 9,500 total flight cycles or 15,000 total flight hours, whichever is first.
Model A310-304, -322, -324, and -325 airplanes that are modified by Airbus Modifications 06672S6812 and 07387S7974 (modified either in production or according to Airbus Service Bulletin A310-57-2035) | Before the accumulation of 21,500 total flight cycles or 34,000 total flight hours, whichever is first.

(g) Repeat the inspection specified in paragraph (f) of this AD thereafter at the applicable time specified in paragraph (g)(1) or (g)(2) of this AD.

(1) For Model A310-203, -204, -221, and -222 airplanes: Repeat thereafter at intervals not to exceed 9,100 flight cycles or 14,650 flight hours, whichever is first.

(2) For Model A310-304, -322, -324, and -325 airplanes: Repeat thereafter at intervals not to exceed 9,500 flight cycles or 15,000 flight hours, whichever is first.

(h) At the applicable time specified in Table 2 of this AD or within 6 months after the effective date of this AD, whichever occurs later: Do a rotating probe inspection for any crack of the left and right sides of the tee fitting, and do all applicable related investigative and corrective actions in accordance with the Accomplishment Instructions of Airbus Service Bulletin A310-57-2047, Revision 06, dated July 13, 2004, except as required by paragraphs (k), (l), and (m) of this AD. Do all applicable related investigative and corrective actions before further flight.

Table 2.—Initial Compliance Times for the Tee Fitting
Airplane model and configuration | Threshold
Model A310-203, -204, -221, and -222 airplanes that are not modified by Airbus Modification 06673S6813 | Before the accumulation of 21,600 total flight cycles or 34,800 total flight hours, whichever is first.
Model A310-203, -204, -221, and -222 airplanes that are modified by Airbus Modification 06673S6813 (modified either in production or in accordance with Airbus Service Bulletin A310-57-2035) | Before the accumulation of 41,300 total flight cycles or 66,500 total flight hours, whichever is first.
Model A310-304, -322, -324, and -325 airplanes that are not modified by Airbus Modification 06673S6813 | Before the accumulation of 17,100 total flight cycles or 27,000 total flight hours, whichever is first.
Model A310-304, -322, -324, and -325 airplanes that are modified by Airbus Modification 06673S6813 (modified either in production or in accordance with Airbus Service Bulletin A310-57-2035) | Before the accumulation of 32,300 total flight cycles or 51,000 total flight hours, whichever is first.

(i) Repeat the inspection specified in paragraph (h) of this AD thereafter at the applicable time specified in paragraph (i)(1) or (i)(2) of this AD.

(1) For Model A310-203, -204, -221, and -222 airplanes: Repeat thereafter at intervals not to exceed 10,800 flight cycles or 17,400 flight hours, whichever is first.

(2) For Model A310-304, -322, -324, and -325 airplanes: Repeat thereafter at intervals not to exceed 8,800 flight cycles or 13,900 flight hours, whichever is first.

Modification

(j) For all airplanes except those that are modified by Airbus Modifications 06672S6812, 06673S6813, and 07387S7974 in production: Within 60 months after the effective date of this AD, modify the holes in the internal angle and tee fitting and do all applicable related investigative and corrective actions by accomplishing all the actions specified in the Accomplishment Instructions of Airbus Service Bulletin A310-57-2035, Revision 08, dated September 19, 2005, except as required by paragraph (k) of this AD. Do all applicable related investigative and corrective actions before further flight.

Contact the FAA

(k) Where Airbus Service Bulletin A310-57-2035, Revision 08, dated September 19, 2005; and Airbus Service Bulletin A310-57-2047, Revision 06, dated July 13, 2004; specify to contact the manufacturer if certain cracks are found, before further flight, repair those conditions according to a method approved by either the Manager, International Branch, ANM-116, Transport Airplane Directorate, FAA; or the Direction Générale de l'Aviation Civile (DGAC) (or its delegated agent).

Touch-and-Go Flights

(l) All touch-and-go landings must be counted in determining the total number of flight cycles between consecutive inspections.

No Reporting Required

(m) Although Airbus Service Bulletin A310-57-2047, Revision 06, dated July 13, 2004, specifies to submit certain information to the manufacturer, this AD does not include that requirement.

Actions Accomplished According to Previous Issues of Service Bulletins

(n) Actions accomplished before the effective date of this AD in accordance with Airbus Service Bulletin A310-57-2047, Revision 03, dated November 26, 1997; Revision 04, dated March 5, 1999; or Revision 05, dated August 3, 2000; are considered acceptable for compliance with the corresponding actions specified in paragraphs (f) through (i) of this AD.

(o) Actions accomplished before the effective date of this AD in accordance with Airbus Service Bulletin A310-57-2035, Revision 1, dated October 13, 1989; Revision 2, dated February 26, 1990; Revision 3, dated May 23, 1990; Revision 4, dated April 15, 1991; Revision 5, dated May 27, 1992; Revision 6, dated March 8, 1994; or Revision 7, dated April 17, 1996; are considered acceptable for compliance with the corresponding actions specified in paragraph (j) of this AD.

Related AD

(p) Accomplishing the initial inspections specified in paragraphs (f) and (g) of this AD terminates the requirements specified in paragraph (o) of AD 98-26-01.

Alternative Methods of Compliance (AMOCs)

(q)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(r) French airworthiness directive F-2005-001, dated January 5, 2005, also addresses the subject of this AD.

Material Incorporated by Reference

(s) You must use Airbus Service Bulletin A310-57-2047, Revision 06, dated July 13, 2004; and Airbus Service Bulletin A310-57-2035, Revision 08, dated September 19, 2005; as applicable, to perform the actions that are required by this AD, unless the AD specifies otherwise. Airbus Service Bulletin A310-57-2047, Revision 06, dated July 13, 2004, includes the following effective pages:

Page Nos. | Revision level shown on page | Date shown on page
1-8, 10-15, 17, 18, 22-25, 33, 37 | 06 | July 13, 2004.
9, 16, 21, 30, 45, 46, 75-80, 95, 96 | 05 | August 3, 2000.
19, 20, 27-29, 35, 36, 47-56, 61-74 | Original | February 26, 1991.
26, 31, 32, 34, 39-44, 59, 60, 81-94 | 04 | March 5, 1999.
38 | 1 | January 4, 1996.
57, 58 | 2 | January 22, 1997.

The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on April 20, 2006.
Kalene C. Yanamura,
Acting Manager, Transport Airplane Directorate, Aircraft Certification Service.

[FR Doc. 06-4052 Filed 5-2-06; 8:45 am]

BILLING CODE 4910-13-P